DEPARTMENT OF TRANSPORTATION

Federal Transit Administration

Limitation on Claims Against Proposed Public Transportation Projects; Correction

AGENCY: Federal Transit Administration (FTA), DOT.

ACTION: Notice; correction.

SUMMARY: The Federal Transit Administration (FTA) published a notice in the Federal Register on September 16, 2014, concerning a limitation on claims for certain specified public transportation projects. The prior notice contained an error regarding one of the project descriptions. This notice serves to correct the error.

FOR FURTHER INFORMATION CONTACT: Nancy-Ellen Zusman, Assistant Chief Counsel, Office of Chief Counsel, (312) 353-2577 or Terence Plaskon, Environmental Protection Specialist, Office of Planning and Environment, (202) 366-0442. FTA is located at 1200 New Jersey Avenue SE., Washington, DC 20590. Office hours are from 9:00 a.m. to 5:30 p.m., Monday through Friday, except Federal holidays.

Correction: In the Federal Register notice dated September 16, 2014, FR Doc. 2014-22065, on page 55528, in the third column, the Vasona Corridor Light Rail Transit Extension Project was incorrectly described as extending the existing line 11.6 miles from the existing Winchester Station to a new Vasona Junction Station. A corrected description should read:

Project description: The FTA issued a Record of Decision (ROD) for the Vasona Corridor Light Rail Transit (LRT) project in June 2000. Construction between downtown San Jose and Winchester Station in Campbell began in 2001. Passenger service started in 2005. The southernmost portion of the project between the Winchester Station and the Vasona Junction Station in Los Gatos was not constructed due to insufficient funding. The Vasona Corridor LRT Extension Project would complete the line as originally planned by extending the existing line 1.6 miles from the existing Winchester Station to a new Vasona Junction Station. The extension includes constructing a double set of LRT tracks; lengthening the six existing station platforms along the Vasona Corridor to accommodate longer train sets; increasing parking capacity and improving pedestrian access at Winchester Station; constructing a new Hacienda Station with an optional park-and-ride lot; a new Vasona Junction Station with a park-and-ride lot, as well as end-of-the-line facilities.

This notice serves to revise the prior project description. This notice does not affect the FTA's previous decisions for this project. The correction does not alter the statute of limitations (SOL) for modifications to the Vasona Corridor Light Rail Transit Extension Project previously noticed on September 16, 2014, and described above. The SOL on claims will still expire on February 13, 2015.

Issued on: September 24, 2014.
Lucy Garliauskas,
Associate Administrator for Planning and Environment.

[FR Doc. 2014-23344 Filed 9-30-14; 8:45 am]

BILLING CODE 4910-57-P